DEPARTMENT OF THE INTERIOR

Bureau of Land Management

[LLORV00000-L10200000.DD0000; HAG 9-0138]

Notice of Meeting, John Day/Snake Advisory Council

AGENCY: Bureau of Land Management, Interior.

ACTION: Notice of Public Meeting.

SUMMARY: Pursuant to the Federal Land Policy and Management Act and the Federal Advisory Committee Act, the U.S. Department of the Interior, Bureau of Land Management (BLM) John Day/Snake Resource Advisory Council (JDSRAC) will meet as indicated below:

DATES: The meeting will begin at 7 p.m. (Pacific Daylight Time) on April 14, 2009.

ADDRESSES: The Council will meet by teleconference. For a copy of material to be discussed or the conference call number, please contact the Vale District; information below.

FOR FURTHER INFORMATION CONTACT: Mark Wilkening, Public Affairs Officer, Vale District Office, 100 Oregon Street, Vale, Oregon 97918, (541) 473-6218.

SUPPLEMENTARY INFORMATION: The JDSRAC will conduct a public meeting by teleconference to discuss and come to consensus on contents of a letter to be sent to the Wallowa-Whitman Forest Supervisor on the Wallowa-Whitman National Forest Draft EIS for Invasive Plants Treatment Project. The meeting is open for the public to call in. Public comment is scheduled from 7:45 p.m. to 8 p.m. (Pacific Daylight Time) April 14, 2009. For a copy of the information distributed to the Council members or the call in number for the teleconference, please contact Mark Wilkening.

Dated: March 31, 2009.
David R. Henderson,
District Manager, Vale District Office.

[FR Doc. E9-7656 Filed 4-3-09; 8:45 am]

BILLING CODE 4310-33-P